DEPARTMENT OF COMMERCE

National Oceanic and Atmospheric Administration

[I.D. 050903A]

Marine Mammals; File No. 369-1440-01

AGENCY: National Marine Fisheries Service (NMFS), National Oceanic and Atmospheric Administration (NOAA), Commerce.

ACTION: Issuance of permit amendment.

SUMMARY: Notice is hereby given that Dr. Bruce R. Mate, Oregon State University, Newport, Oregon 97365-5296, has been issued an amendment to Permit No. 369-1440-01 to take various species of large whales and opportunistically take by Level B harassment other species of marine mammals, for purposes of scientific research.

ADDRESSES: The amendment and related documents are available for review upon written request or by appointment in the following offices:

Permits and Documentation Division, Office of Protected Resources, NMFS, 1315 East-West Highway, Room 13705, Silver Spring, MD 20910 (301/713-2289);

Assistant Regional Administrator for Protected Resources, Northeast Region, NMFS, One Blackburn Drive, Gloucester, MA 01930-2298; phone (508)281-9346; fax (508)281-9371; and

Assistant Regional Administrator for Protected Resources, Southeast Region, NMFS, 9721 Executive Center Drive North, St. Petersburg, FL 33702-2432; phone (813)570-5301; fax (813)570-5517.

FOR FURTHER INFORMATION CONTACT: Ruth Johnson 301/713-2289.

SUPPLEMENTARY INFORMATION: On January 28, 2003, notice was published in the Federal Register (68 FR 4178) that an amendment of Permit No. 369-1440-01, issued April 19, 1999 (64 FR 19135), had been requested by the above-named individual. The requested amendment has been granted under the authority of the Marine Mammal Protection Act of 1972, as amended (16 U.S.C. 1361 et seq.), the provisions of § 216.39 of the Regulations Governing the Taking and Importing of Marine Mammals (50 CFR part 216), the Endangered Species Act of 1973, as amended (ESA; 16 U.S.C. 1531 et seq.), and the regulations governing the taking, importing, and exporting of threatened and endangered fish and wildlife (50 CFR 222.226).

The amendment authorizes the applicant to tag and biopsy sample fin whales in international water in the Mediterranean Sea and extends the expiration date through October 2004.

Issuance of this amendment, as required by the ESA was based on a finding that such permit (1) was applied for in good faith, (2) will not operate to the disadvantage of the endangered species which is the subject of this permit, and (3) is consistent with the purposes and policies set forth in section 2 of the ESA.

Dated: May 13, 2003.
Stephen L. Leathery,
Chief, Permits and Documentation Division, Office of Protected Resources, National Marine Fisheries Service.

[FR Doc. 03-12886 Filed 5-21-03; 8:45 am]

BILLING CODE 3510-22-S